DEPARTMENT OF AGRICULTURE

Animal and Plant Health Inspection Service

[Docket No. APHIS-2021-0066]

Addition of the Kingdom of Lesotho, the Republic of Benin, and the Republic of Botswana to the List of Regions Affected With Highly Pathogenic Avian Influenza

AGENCY: Animal and Plant Health Inspection Service, USDA.

ACTION: Notice.

SUMMARY: We are advising the public that we added the Kingdom of Lesotho, the Republic of Benin, and the Republic of Botswana to the list of regions that the Animal and Plant Health Inspection Service considers to be affected by highly pathogenic avian influenza (HPAI). These actions follow our imposition of HPAI-related restrictions on avian commodities originating from or transiting the Kingdom of Lesotho, the Republic of Benin, and the Republic of Botswana, as a result of the confirmation of HPAI in the Kingdom of Lesotho, the Republic of Benin, and the Republic of Botswana.

DATES: The Kingdom of Lesotho, the Republic of Benin, and the Republic of Botswana were added to the list of regions APHIS considers to be affected with HPAI, effective respectively on June 8, 2021; August 26, 2021; and September 10, 2021.

FOR FURTHER INFORMATION CONTACT: For further information regarding HPAI in the Kingdom of Lesotho and the Republic of Benin, contact Dr. John Grabau, APHIS Veterinary Services, Regionalization Evaluation Services, Strategy and Policy, 920 Main Campus Drive, Venture II, Raleigh, NC 27606; phone: (919) 855-7738; email: AskRegionalization@usda.gov. For further information regarding HPAI in the Republic of Botswana, contact Dr. C. Aaron Monroy, APHIS Veterinary Services, Regionalization Evaluation Services, Strategy and Policy, 920 Main Campus Drive, Venture II, Raleigh, NC 27606; phone: (919) 855-7207; email: AskRegionalization@usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 of the regulations contains requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. The Animal and Plant Health Inspection Service (APHIS) maintains a list of restricted regions it considers affected with HPAI of any subtype on the APHIS website at https://www.aphis.usda.gov/aphis/ourfocus/animalhealth/animal-and-animal-product-import-information/animal-health-status-of-regions.

APHIS receives notice of HPAI outbreaks from veterinary officials of the exporting country, from the World Organization for Animal Health (WOAH),¹ or from other sources the Administrator determines to be reliable.

¹ The World Organization for Animal Health internationally follows a British English spelling of “organisation” in its name; it was formerly the Office International des Epizooties, or OIE, but on May 28, 2022, the Organization announced that the acronym was changed from OIE to WOAH.

On May 31, 2021, the veterinary authorities of the Kingdom of Lesotho reported to the WOAH an HPAI occurrence in that country. On June 8, 2021, after confirming that the HPAI occurred in commercial birds or poultry, APHIS added the Kingdom of Lesotho to the list of regions where HPAI exists. On that same day, APHIS issued an import alert notifying stakeholders that APHIS imposed restrictions on the importation of poultry, commercial birds, other types of birds (research, performing), ratites, any avian hatching eggs, unprocessed avian products and byproducts, and certain fresh poultry products from the Kingdom of Lesotho to mitigate risk of HPAI introduction into the United States.

On August 20, 2021, the veterinary authorities of the Republic of Benin reported to the WOAH an HPAI occurrence in that country. On August 26, 2021, after confirming that the HPAI occurred in commercial birds or poultry, APHIS added the Republic of Benin to the list of regions where HPAI exists. On that same day, APHIS issued an import alert notifying stakeholders that APHIS imposed restrictions on the importation of poultry, commercial birds, other types of birds (research, performing), ratites, any avian hatching eggs, unprocessed avian products and byproducts, and certain fresh poultry products from the Republic of Benin to mitigate risk of HPAI introduction into the United States.

On September 6, 2021, the veterinary authorities of the Republic of Botswana reported to the WOAH an HPAI occurrence in that country. On September 10, 2021, after confirming that the HPAI occurred in commercial birds or poultry, APHIS added the Republic of Botswana to the list of regions where HPAI exists. On that same day, APHIS issued an import alert notifying stakeholders that APHIS imposed restrictions on the importation of poultry, commercial birds, other types of birds (research, performing), ratites, any avian hatching eggs, unprocessed avian products and byproducts, and certain fresh poultry products from the Republic of Botswana to mitigate risk of HPAI introduction into the United States.

With the publication of this notice, we are informing the public that we added: The Kingdom of Lesotho to the list of regions APHIS considers affected with HPAI of any subtype, effective June 8, 2021; the Republic of Benin to the list of regions APHIS considers affected with HPAI of any subtype, effective August 26, 2021; and the Republic of Botswana to the list of regions APHIS considers affected with HPAI of any subtype, effective September 10, 2021. This notice serves as an official record and public notification of these actions.

Congressional Review Act

Pursuant to the Congressional Review Act (5 U.S.C. 801 et seq.), the Office of Information and Regulatory Affairs designated this action as not a major rule, as defined by 5 U.S.C. 804(2).

Authority: 7 U.S.C. 1633, 7701-7772, 7781-7786, and 8301-8317; 21 U.S.C. 136 and 136a; 31 U.S.C. 9701; 7 CFR 2.22, 2.80, and 371.4.

Done in Washington, DC, this 4th day of August 2022.
Anthony Shea,
Administrator, Animal and Plant Health Inspection Service.

[FR Doc. 2022-17192 Filed 8-9-22; 8:45 am]

BILLING CODE 3410-34-P